DEPARTMENT OF ENERGY

Federal Energy Regulatory Commission

[Docket No. CP06-85-000]

CenterPoint Energy Gas Transmission Company; Notice of Application

March 17, 2006.

On March 10, 2006, in Docket No. CP06-85-000, CenterPoint Energy Gas Transmission Company (CEGT), pursuant to section 7(c) of the Natural Gas Act, as amended, and section 157 subpart A of the Federal Energy Regulatory Commission's (Commission) regulations requests authorization to construct, own, and operate the Carthage to Perryville Project designed to receive and transport 1.237 billion cubic feet per day of natural gas. The project would consist of: 171.9 miles of 42-inch diameter pipeline; compression totaling 41,240 hp at two compressor stations; meter and regulator stations at receipt points with 3 Texas intrastate pipelines; interconnections with 4 interstate pipelines; and, appurtenant facilities. The facilities will operate separately from CEGT's existing pipeline system, and CEGT is seeking implementation of a fixed charge for Fuel Use and Lost and Unaccounted For Gas (LUFG) applicable to transportation on the new facilities, all as more fully described in the application. CEGT seeks waiver of the Commission's regulations such that the 30-day comment period for the Final Environmental Impact Statement may coincide with the 30-day requested certificate order's rehearing period and that notational voting be used to extent this approach would expedite the order's issuance. CEGT requests that the Commission issue requested authorizations by October 30, 2006 so that facilities may be operable in time for the 2006-2007 winter heating season.

On November 10, 2005, the Commission staff granted CEGT's request to utilize the National Environmental Policy Act (NEPA) Pre-Filing Process and assigned Docket No. PF06-1-000 to staff activities involving CEGT. Now, as of the filing of CEGTs application on March 10, 2006, the NEPA Pre-Filing Process for this project has ended. From this time forward, CEGT's proceeding will be conducted in Docket No. CP06-85-000.

Questions concerning the application should be directed to: Lawrence O. Thomas, Director-Rates & Regulatory at CenterPoint Energy Gas Transmission Co., P.O. Box 21734, Shreveport, Louisiana 71151, or by calling (318) 429-2804; Mark C. Schroeder, Vice President & General Counsel at CenterPoint Energy Gas Transmission Co., P.O. Box 1700, Houston, TX 77210-1700, or by calling (713) 207-3395; and, Richard D. Avil, Jr. and Jonathan Christian at Jones Day, 51 Louisiana Ave., NW., Washington, DC 20001 or by calling 202-879-3939.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on April 7, 2006.

Magalie R. Salas,
Secretary.

[FR Doc. E6-4234 Filed 3-23-06; 8:45 am]

BILLING CODE 6717-01-P